NATIONAL SCIENCE FOUNDATION

Advisory Panel for Social and Political Science; Notice of Meetings

In accordance with the Federal Advisory Committee Act (Pub. L. 92-463, and amended), the National Science Foundation announces the following meetings:

Name: Advisory Panel for Social and Political Science (#1761).

Date and Time: May 4-5, 2000; 9 a.m. to 5 p.m.

Place: National Science Foundation, 4201 Wilson Boulevard, Room 970; Arlington, VA 22230.

Contact Person: Dr. Frank Scioli and Dr. Marianne Stewart, Program Directors for Political Science, National Science Foundation. Telephone: (703) 306-1761.

Agenda: To review and evaluate the political science proposals as part of the selection process for awards.

Date and Time: April 22-23, 2000; 9 a.m. to 5 p.m.

Place: National Science Foundation, 4201 Wilson Boulevard, Room 970, Arlington VA 22230.

Contact Person: Dr. D. Marie Provine, Program Director, Law and Social Science, National Science Foundation, 4201 Wilson Boulevard, Room 970, Arlington VA 22230. Telephone (703) 306-1762.

Agenda: To review and evaluate the Law and Social Science Proposals as a part of the selection process for awards.

Date and Time: April 27-28, 2000; 9 a.m. to 5 p.m.

Place: 4201 Wilson Boulevard, Room 330 & Room 370, Arlington VA 22230.

Contact Person: Dr. Patricia White and Dr. Murray Webster, National Science Foundation, Telephone (703) 306-1756.

Agenda: To review and evaluate the Sociology proposals as a part of the selection process for awards.

Type of Meetings: Closed.

Purpose of Meetings: To provide advice and recommendations concerning support for research proposals submitted to the NSF for financial support.

Reason for Closing: The proposals being reviewed include information of a proprietary or confidential nature, including technical information; financial data, such as salaries; and personal information concerning individuals associated with the proposals. These maters are exempt under 5 U.S.C. 552b(c), (4) and (6) of the Government in the Sunshine Act.

Dated: March 30, 2000.
Karen J. York,
Committee Management Officer.

[FR Doc. 00-8259 Filed 4-3-00; 8:45 am]

BILLING CODE 7555-01-M